DEPARTMENT OF DEFENSE

Department of the Army

Privacy Act of 1974; System of Records

AGENCY: Department of the Army, DoD.

ACTION: Notice to delete and amend systems of records.

SUMMARY: The Department of the Army is deleting and amending systems of records notices in its existing inventory of records systems subject to the Privacy Act of 1974, (5 U.S.C. 552a), as amended.

DATES: This proposed action will be effective without further notice on March 8, 2002 unless comments are received which result in a contrary determination.

ADDRESSES: Records Management Division, U.S. Army Records Management and Declassification Agency, Attn: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: February 7, 2002.
L.M. Bynum,
Alternate OSD Federal Register Liaison Officer, Department of Defense.

Deletion

A0040-1 HSC

System name:

Professional Personnel Information File (February 22, 1993, 58 FR 10002).

Reason: The Department of the Army has determined that this system of records is no longer needed. The data being maintained in this system of records have been transferred to other Army Privacy Act systems of records which maintain Army personnel records, or they have been destroyed.

Amendment

A0027-60b DAJA

System name:

Patent, Copyright, and Data License Proffers, Infringement Claims, and Litigation Files (February 22, 1993, 58 FR 10002).

Changes:

* * * * *

Authority for maintenance of the system:

Delete entry and replace with ‘10 U.S.C. 3013, Secretary of the Army; 17 U.S.C., Copyrights; 15 U.S.C. Chapter 22, Trademarks; 15 U.S.C. Chapter 63, Technology Innovation; Army Regulation, 27-40, Litigation; Amy Regulation 27-60, Intellectual Property; Army Regulation 70-57, Military-Civilian Technology Transfer; DA PAM 27-11, Army Patents; and E.O. 9397 (SSN).’

Routine uses of records maintained in the system, including categories of users and the purposes of such uses:

Reword entry to read ‘To non-DoD government agencies involved in claims or litigation to determine the validity of allegations for the purposes of properly prosecuting or defending the case.

To Department of the Justice Civil Division to determine the validity of allegations for proper prosecution or defense of allegations in claims or litigation.

To Congress to receive reports for the purpose of determining the Department of the Army’s position on particular bills for private relief.

To law students to permit them to provide legal support for the purposes of participating in a volunteer legal support program approved by the Judge Advocate General of the Army.”

* * * * *

Storage:

Delete entry and replace with ‘Paper records in file folders and on electronic storage media.”

Retrievability:

Add to entry ‘and/or case number’.

* * * * *

Retention and disposal:

Delete entry and replace with ‘Infringement allegations, patent License proffers, patent infringement and administrative litigations, data licensing and litigation, copyright infringement and litigation claims are destroyed after 30 years. Request for greater rights, royalty records and intellectual property private litigations are destroyed after 20 years; government asserted claims are destroyed after 25 years, infringement legislative claims are destroyed after 35 years; proffer and infringement claims dockets are maintained in current file area then destroyed after 40 years.’

* * * * *

A0027-60b DAJA

System name:

Patent, Copyright, and Data License Proffers, Infringement Claims, and Litigation Files.

System location:

Office of the Judge Advocate General, Department of the Army, Intellectual Property Office, Regulatory Law and Intellectual Property Division, Nassif Building, 5611 Columbia Pike, Falls Church, VA 22041-5013.

Segments of this system may exist at the Office, Chief of Engineers, Headquarters, U.S. Army Materiel Command, and/or its major subordinate field commands.

Categories of individuals covered by the system:

Claimants or defendants in administrative proceedings or litigation with the government for improper use, infringement, enforcement of agreements, or comparable claims concerning patents or copyrights; individuals having copyrights in material in which the Department of the Army is interested; individuals who own patents which they offer to license to Department of the Army; individuals seeking private relief before the Congress because of right in inventions, patents, copyrights, or data licenses.

Categories of records in the system:

Documents relating to the administrative assertion of claims by and against the government and to litigation with the government for alleged misuse of patents, copyrights, trademarks, and data, including inquiries, investigations, settlements, communications with claimants or defendants, and related correspondence; documents relating to advice and assistance provided in obtaining licenses for Department of the Army use of copyright material; documents relating to the investigation and disposition of patent license offers; documents relating to investigations in connection with processing proposed legislation or bills for private relief of individuals because of rights of individuals in inventions, patents, copyrights, or data, including reports of investigations, comments or recommendations, and related correspondence.

Authority for maintenance of the system:

10 U.S.C. 3013, Secretary of the Army; 17 U.S.C., Copyrights; 15 U.S.C. Chapter 22, Trademarks; 15 U.S.C. Chapter 63, Technology Innovation; Army Regulation, 27-40, Litigation; Army Regulation 27-60, Intellectual Property; Army Regulation 70-57, Military-Civilian Technology Transfer; DA PAM 27-11, Army Patents; and E.O. 9397 (SSN).

Purpose(s):

To maintain evidence and record of claims and litigation involving Department of the Army concerning patents, trademarks, copyrights, and data; to maintain evidence and record of Department of the Army attempts to use copyrighted material and to receive the copyright owner’s permission for such use; to maintain record and evidence of patent license offers received and investigations and reports pursuant thereto; and to maintain record and evidence of investigations of proposed legislation or bills for private relief.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To non-DoD government agencies involved in claims or litigation to determine the validity of allegations for the purposes of properly prosecuting or defending the case.

To Department of the Justice Civil Division to determine the validity of allegations for proper prosecution or defense of allegations in claims or litigation.

To Congress to receive reports for the purpose of determining the Department of the Army's position on particular bills for private relief.

To law students to permit them to provide legal support for the purposes of participating in a volunteer legal support program approved by the Judge Advocate General of the Army.

The DoD ‘Blanket Routine Uses’ set forth at the beginning of the Army's compilation of systems of records notices also apply to this system.

Policies and practices for storing, retrieving, accessing, retaining, and disposing of records in the system:

Storage:

Paper records in file folders and on electronic storage media.

Retrievability:

By individual's surname and/or case number.

Safeguards:

Records are maintained in buildings, which employ security guards and are accessed only by authorized personnel having official need-to-know. Automated segments are protected by controlled system passwords governing access to data.

Retention and disposal:

Infringement allegations, patent License proffers, patent infringement and administrative litigations, data licensing and litigation, copyright infringement and litigation claims are destroyed after 30 years. Request for greater rights, royalty records and intellectual property private litigations are destroyed after 20 years; government asserted claims are destroyed after 25 years, infringement legislative claims are destroyed after 35 years; proffer and infringement claims dockets are maintained in current file area then destroyed after 40 years.

System manager(s) and address:

The Judge Advocate General, Headquarters, Department of the Army, 1777 North Kent Street, Arlington, VA 22209-2194.

Notification procedure:

Individuals seeking to determine whether information about themselves is contained in this system should address written inquiries to the Judge Advocate General, Headquarters, Department of the Army, 1777 North Kent Street Arlington, VA 22209-2194.

Individual should provide full name, current address and telephone number, case number that appeared on documentation, any other information that will assist in locating pertinent records, and signature.

Record access procedures:

Individuals seeking access to information about themselves contained in this system should address written inquiries to the Judge Advocate General, Headquarters, Department of the Army, 1777 North Kent Street Arlington, VA 22209-2194.

Individual should provide full name, current address and telephone number, case number that appeared on documentation, any other information that will assist in locating pertinent records, and signature.

Contesting record procedures:

The Army's rules for accessing records, and for contesting contents and appealing initial agency determinations are contained in Army Regulation 340-21; 32 CFR part 505; or may be obtained from the system manager.

Record source categories:

From the individual, the Army organizational element interested in the copyrighted material or offered license, employment records, pertinent government patent files, Department of Justice and/or the government agencies involved in the claims or litigation.

Exemptions claimed for the system:

None.

A0351 HSC-AHS

System name:

Academy of Health Sciences: Academic and Supporting Records (February 22, 1993, 58 FR 10002).

Changes:

* * * * *

System name:

Delete entry and replace with ‘U.S. Army Medical Department School and Academy of Health Sciences Academic Records.”

System location:

Delete entry and replace with ‘U.S. Army Medical Department Center and School, Academy of Health Sciences, Department of Academic Support, 2250 Stanley Road, Fort Sam Houston, TX 78234-6100.’

* * * * *

Authority for maintenance of the system:

Delete entry and replace with ‘10 U.S.C. 3013, Secretary of the Army; Army Regulation 351-3, Professional Education and Training Programs of the Army Medical Department; and E.O. 9397 (SSN).’

* * * * *

Retrievability:

Delete ‘assigned passwords’ from entry.

* * * * *

A0351 HSC-AHS

System name:

U.S. Army Medical Department School and Academy of Health Sciences Academic Records.

System location:

U.S. Army Medical Department Center and School, Academy of Health Sciences, Department of Academic Support, 2250 Stanley Road, Fort Sam Houston, TX 78234-6100.

Categories of individuals covered by the system:

Resident and correspondence students enrolled in courses at the Academy.

Categories of records in the system:

Student's name, Social Security Number, grade/rank, academic qualifications, progress reports, academic grades, ratings attained, aptitudes and personal qualities, including corporate fitness results; faculty board records pertaining to class standing/rating/classification/proficiency of students; class academic records maintained by instructors indicating attendance and progress of class members.

Authority for maintenance of the system:

10 U.S.C. 3013, Secretary of the Army; Army Regulation 351-3, Professional Education and Training Programs of the Army Medical Department; and E.O. 9397 (SSN).

Purpose(s):

To determine eligibility for enrollment/attendance, monitor student progress, record accomplishments, and serve as record of courses which may be prerequisite for other formal courses of instruction, licensure, certification, and employment.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to civilian medical institutions for the purpose of accrediting the individual's training and instruction.

The DoD ‘Blanket Routine Uses’ set forth at the beginning of the Army's compilation of systems of records notices also apply to this system.

Policies and practices for storing, retrieving, accessing, retaining, and disposing of records in the system:

Storage:

Paper records, microfiche, cards, magnetic tape and/or disc, and computer printouts.

Retrievability:

By individual's name and Social Security Number.

Safeguards:

Access to all records is restricted to designated individuals whose official duties dictate the need therefore.

Retention and disposal:

Academic records are maintained 40 years at the Academy of Health Sciences. Except for the master file, automated data are erased after the fourth updating cycle.

System manager(s) and address:

Registrar, Academy of Health Sciences, 2250 Stanley Road, Fort Sam Houston, TX 78234-6000.

Notification procedure:

Individuals seeking to determine whether information about themselves is contained in this system should address written inquiries to the Registrar, Academy of Health Sciences, 2250 Stanley Road, Fort Sam Houston, TX 78234-6000.

For verification purposes, individual should provide the full name, Social Security Number, date attended/enrolled, current address, and signature.

Record access procedures:

Individuals seeking access to information about themselves contained in this system should address written inquiries to the Registrar, Academy of Health Sciences, 2250 Stanley Road, Fort Sam Houston, TX 78234-6000.

For verification purposes, individual should provide the full name, Social Security Number, date attended/enrolled, current address, and signature.

Contesting record procedures:

The Army's rules for accessing records, and for contesting contents and appealing initial agency determinations are contained in Army Regulation 340-21; 32 CFR part 505; or may be obtained from the system manager.

Record source categories:

From the individual and Academy of Health Sciences' staff and faculty.

Exemptions claimed for the system:

None.

[FR Doc. 02-3704 Filed 2-14-02; 8:45 am]

BILLING CODE 5001-08-P